DEPARTMENT OF TRANSPORTATION

Maritime Administration

Notice of Funding Opportunity for America's Marine Highway Projects; Corrections

AGENCY: Maritime Administration, DOT.

ACTION: Correcting amendments.

SUMMARY: On June 14, 2019, the Maritime Administration announced the availability of funding for the Short Sea Transportation Program, commonly referred to as the America's Marine Highway Program (AMHP). The document inadvertently provided a deadline of June 14, 2019 for applications to be received. This document corrects the previous notice by stating that the deadline for applications to be received by MARAD is instead 5 p.m. EDT on August 15, 2019.

DATES: Applicable June 19, 2019.

FOR FURTHER INFORMATION CONTACT: Fred Jones, Office of Ports & Waterways Planning, Room W21-311, Maritime Administration, U.S. Department of Transportation, 1200 New Jersey Ave. SE, Washington, DC 20590, phone 202-366-1123, or email Fred.Jones@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours.

SUPPLEMENTARY INFORMATION: In FR Doc. 2019-12580 appearing on page 27838 in the Federal Register on Friday, June 14, 2019, the following corrections are made:

1. On page 27838, under “DATES: Applications must be received by the Maritime Administration by 5 p.m. EDT on June 14, 2019.” is corrected to read “DATES: Applications must be received by the Maritime Administration by 5 p.m. EDT on August 15, 2019.”

2. On page 27842, the first sentence beginning under “Submission Dates and Times Applications must be received by 5 p.m. EDT on June 14, 2019. Late applications that are the result of failure to register or comply with Grants.gov application requirements in a timely manner will not be considered.” is corrected to read “Submission Dates and Times Applications must be received by 5 p.m. EDT on August 15, 2019. Late applications that are the result of failure to register or comply with Grants.gov application requirements in a timely manner will not be considered.”

* * * * *

Dated: June 14, 2019.
By Order of the Maritime Administrator.
T. Mitchell Hudson, Jr.,
Secretary, Maritime Administration.

[FR Doc. 2019-12971 Filed 6-18-19; 8:45 am]

BILLING CODE 4910-81-P